DEPARTMENT OF HEALTH AND HUMAN SERVICES

Administration for Children and Families

President's Committee for People With Intellectual Disabilities; Notice of Meeting

AGENCY: President's Committee for People With Intellectual Disabilities (PCPID), HHS.

ACTION: Notice of Quarterly Meeting.

DATES: Thursday, February 15, 2007, from 9 a.m. to 4:30 p.m., and Friday, February 16, 2007, from 8 a.m. to 1 p.m. The entire meeting of PCPID will be open to the public.

ADDRESSES: The meeting will be held in Room 800 of the Hubert H. Humphrey Building, 200 Independence Avenue, SW., Washington, DC 20201. Individuals who will need accommodations for a disability in order to attend the meeting (e.g., interpreting services, assistive listening devices, materials in alternative format such as large print or Braille) should notify Ericka Alston via email at ealston@acf.hhs.gov, or via telephone at 202-619-0634 no later than February 8, 2007. We will attempt to meet requests made after that date, but cannot guarantee availability. All meeting sites are barrier free.

Meeting Registration: The meeting is open to the public, but attendance is limited to the space available. Persons wishing to attend this meeting must register by contacting Ericka Alston at the email address or telephone number listed in the ADDRESSES section of this notice by 12 p.m. EST on February 14, 2007. For those unable to participate in person, audio of the Thursday, February 15 proceedings may be accessed via telephone by dialing 888-396-9926, passcode 54979, and requires no pre-registration.

Agenda: Day One—The subcommittees will each present a panel of experts in their respective fields of public awareness, housing and research applications. Presentations will also be given on asset development and people with intellectual disabilities and the criminal justice system.

Agenda: Day Two—The Committee will hear a briefing on Disabilityinfo.gov and then spend the remainder of the meeting in work groups for the purpose of planning the annual report to the President.

FOR FURTHER INFORMATION CONTACT: Sally D. Atwater, Executive Director, President's Committee for People with Intellectual Disabilities, Aerospace Center Office Building, Suite 701, 901 D Street, SW., Washington, DC 20447. Telephone: 202-619-0634, Fax: 202-205-9591. E-mail: satwater@acf.hhs.gov.

SUPPLEMENTARY INFORMATION: PCPID acts in an advisory capacity to the President and the Secretary of Health and Human Services on a broad range of topics relating to programs, services and supports for persons with intellectual disabilities. The Committee, by Executive Order, is responsible for evaluating the adequacy of current practices in programs, services and supports for persons with intellectual disabilities, and for reviewing legislative proposals that impact the quality of life experienced by citizens with intellectual disabilities and their families.

Dated: January 16, 2007.
Sally D. Atwater,
Executive Director, President's Committee for People with Intellectual Disabilities.

[FR Doc. E7-1805 Filed 2-2-07; 8:45 am]

BILLING CODE 4184-01-P